DEPARTMENT OF AGRICULTURE

Forest Service

South Manti Timber Salvage; Manti-La Sal National Forest, Sanpete and Sevier Counties, UT

AGENCY: Forest Service, USDA.

ACTION: Revised notice of intent to prepare environmental impact statement.

SUMMARY: On March 14, 2002, U.S. District Court Judge Dale A. Kimball issued an adverse opinion that affected the South Manti Timber Salvage project (Record of Decision was signed by acting Forest Supervisor, Crockett Dumas, on May 22, 2000). Based upon this decision, it was determined that another NEPA analysis and decision (non-significant Forest Plan Amendment) would be made to evaluate blue grouse as a Management Indicator Species (MIS) and to replace with the northern gashawk before the Forest made another decision related to the South Manti Timber Salvage project. The Forest has developed an non-significant Forest Plan Amendment that was signed on June 16, 2003. This Amendment changed one MIS from the blue grouse to the northern gashawk.

On March 20, 2003, a team met to review the existing document relative to section 18 of the Forest Service NEPA Handbook. Consequently, the Forest is developing an addendum to the Final Environmental Impact Statement (FEIS) to make simple corrections and update the document.

FOR FURTHER INFORMATION CONTACT: Please contact Doug Jones, Timber Program Manager and Team Leader, Manti-La Sal National Forest, phone (435) 636-2817.

SUPPLEMENTARY INFORMATION: Due to the court decision, the implementation of this project has been substantially delayed. It is anticipated that a new decision will be completed by December of 2003. It has not been determined if additional public scoping will be completed. If additional scoping is necessary, a legal notice will be printed in the paper of record and the original commenters will be contacted. The deciding official will be Alice Carlton. In the new decision, there will be no entry into any Inventorized Roadless Areas. This action will amend the original NOI dated February 17, 1998 (volume 63, No. 31).

Dated: July 16, 2003.
Melissa Blackwell,
Acting Forest Supervisor, Manti-La Sal National Forest.

[FR Doc. 03-25129 Filed 10-2-03; 8:45 am]

BILLING CODE 3410-11-M